DEPARTMENT OF TRANSPORTATION

Federal Aviation Administration

DEPARTMENT OF COMMERCE

Technology Administration

[Docket No. 030325071-3071-01]

Request for Commercial Requirements for U.S. Launch Range Improvements and Modernization

AGENCIES: Federal Aviation Administration (FAA); Department of Commerce, Technology Administration, Office of Space Commercialization.

ACTION: Notice and request for information.

SUMMARY: The Department of Transportation (DOT) and the Department of Commerce (DOC) request input from the U.S. commercial space transportation sector regarding U.S. launch base and range support and modernization. Specifically, DOT and DOC seek to collect range support and modernization requirements from current or future commercial users of the Eastern Range at Cape Canaveral Air Force Station, Florida, and the Western Range at Vandenberg Air Force Base, California.

DATES: Responses must be received no later than June 2, 2003.

ADDRESSES: Please submit responses to this announcement to both the FAA and DOC, Office of Space Commercialization. Responses submitted in writing must be submitted in duplicate to the FAA and the Office of Space Commercialization, respectively, as follows: Docket No. 030325071-3071-01, Docket Management System, U.S. Department of Transportation, Room Plaza 401, 400 Seventh Street, SW., Washington, DC 20590-0001. Docket No. 030325071-3071-01, Office of Space Commercialization, Room 4800-B, U.S. Department of Commerce, Herbert C. Hoover Building, 14th & Constitution Ave., NW., Washington, DC 20230. If you wish to receive confirmation that FAA and DOC received your comments, include a self-addressed, stamped postcard.

You also have the option to submit comments electronically through the Internet to the FAA at http://dms.dot.gov. Information and/or data considered to be proprietary should be labeled appropriately and should not be filed electronically. You may review the public docket containing responses to this announcement in person in the Department of Transportation Dockets Office between 9 a.m. and 5 p.m., Monday through Friday, except Federal holidays. The Dockets Office is on the plaza level of the NASSIF Building at the Department of Transportation at the above address. Also, you may review public dockets on the Internet at http://dms.dot.gov.

FOR FURTHER INFORMATION CONTACT: Kelvin Coleman (FAA), (202) 267-7972, or Paula Trimble (DOC), (202) 482-4574.

SUPPLEMENTARY INFORMATION: The February 2000 White House report on the Future Use and Management of the U.S. Space Launch Bases and Ranges documented a national strategy to enhance and expand the government-industry partnership for management and use of the Eastern and Western ranges (EWR). This strategy included a recommendation to allow commercial users of the Eastern and Western ranges adequate opportunity to communicate their requirements so they could be actively considered and factored into Air Force decisions on range improvements and modernization.

Further, the report recommended that the government establish an ongoing process for collecting, communicating, and considering commercial requirements for EWR support and modernization. Thus, the Departments of Transportation and Commerce seek to work with U.S. commercial space sector users of the EWR to collect commercial launch range requirements, especially those common to multiple users, for launch range support and modernization. Responses to this announcement should include the following:

1. A detailed explanation of the requirement;

2. Technical and economic rationale, as well as, overall importance; and

3. Key dimensions of performance, with threshold and objective requirements if possible.

A threshold requirement is a minimum acceptable value for a system capability or characteristic, which, in the user's judgment, is necessary to provide an operational capability. An objective requirement is a value beyond the threshold that could have a measurable and beneficial impact on the system capability, supportability, or operational concept of employment. (For example, “The imaging subsystem must be capable of maintaining coverage on space launch vehicles from first motion through powered flight as a threshold and orbital insertion as an objective.”)

Subsequent to collecting these requirements, DOT and DOC will consolidate and prioritize requirements, with consultation from the commercial sector, and prepare a report. This report will contain commercial requirements for EWR support and modernization, and will be provided to the Air Force such that commercial sector requirements for range support and modernization can be considered in the Department of Defense (DOD) requirements process.

This request is applicable to requirements for EWR support and modernization only, and not to mission specific requirements that may be appropriately handled via the Universal Documentation System (UDS), per Air Force Space Command Instruction 21-104.

Dated: March 27, 2003.
Patricia G. Smith,
Associate Administrator for Commercial Space Transportation, Federal Aviation Administration.
Dated: March 28, 2003.
Benjamin H. Wu,
Deputy Under Secretary for Technology, Department of Commerce.

[FR Doc. 03-7934 Filed 4-1-03; 8:45 am]

BILLING CODE 4910-13-P